DEPARTMENT OF AGRICULTURE

Forest Service

Kootenai National Forest Noxious Weed Management EIS; Kootenai National Forest, Lincoln County, MT

AGENCY: Forest Service, USDA.

ACTION: Notice of intent to prepare an Environmental Impact Statement.

SUMMARY: The Forest Service will prepare an Environmental Impact Statement (EIS) for a proposal to manage noxious weeds (invasive plant species) on the Kootenai National Forest. The project includes the entire Kootenai National Forest. Counties included in the analysis area are Lincoln, Sanders, and Flathead in Montana, and Boundary and Bonner in Idaho.

DATES: Scoping comment date: Written comments or suggestions concerning the scope of the analysis should be postmarked by July 19, 2004.

ADDRESSES: The Responsible Official is Bob Castaneda, Forest Supervisor, Kootenai National Forest, 1101 Hwy 2 West, Libby, MT 59923. Written comments and suggestions concerning the scope of the analysis may be sent to him at that address.

FOR FURTHER INFORMATION CONTACT: Contact Lou Kuennen, Team Leader, Kootenai National Forest Supervisor's Office, 1101 Hwy 2 W, Libby, MT 59923, phone (406) 293-6211.

SUPPLEMENTARY INFORMATION: The analysis area is the entire Kootenai National Forest, approximately 2.2 million acres. The purpose and need of this project is to: (1) Prevent or discourage introduction and establishment of newly invading weed species on Forest land; (2) prevent or limit spread of established weeds into areas with few or no infestations on Forest land; (3) restore native plant communities and improve forage on specific big game summer and winter ranges; (4) treat weeds near the Forest boundary where adjacent landowners are interested in or are currently managing weeds; (5) limit spread of weeds into and within wilderness areas. Both ground and aerial application of herbicides is proposed to control noxious weeds. This application of herbicides will be part of Integrated Pest Management (IPM). The other areas of IPM are cultural, biological (bioagents), and mechanical control as well as prevention and education. Noxious weeds generally possess one or more of the following characteristics: aggressive and difficult to manage, poisonous, toxic, parasitic, a carries or host of serious insects or disease, and generally non-native. They also have a probability of causing economic or environmental damage. Specific areas of ground application will vary depending on weed locations. Potential areas of aerial applications have been identified and involve approximately 29,000 acres.

Range of Alternatives: The Forest Service will consider a range of alternatives. One of these will be the “no action” alternative in which none of the proposed activities would be implemented. Additional alternatives will examine ground and aerial herbicide application as well as respond to the issues and other resource values.

Public Involvement and Scoping: Public participation will be especially important at several points during the analysis. The first point is during the scoping process (40 CFR 1501.7). The Forest Service will be seeking information, comments, and assistance from Federal, State, and local agencies and other individuals or organizations that may be interested in, or affected by, the proposed action. This input will be used in preparation of the DEIS. The scoping process includes:

1. Identifying potential issues;

2. Identifying issues to be analyzed in depth;

3. Eliminating insignificant issues or those which have been covered by a relevant previous environmental analysis;

4. Exploring additional alternatives;

5. Identifying potential environmental effects of the proposed action and alternatives (i.e., direct, indirect, and cumulative effects and connected actions); and

6. Determining potential cooperating agencies and task assignments.

Estimated Dates for Filing: The DEIS is expected to be filed with the Environmental Protection Agency (EPA) and to be available for public review by June 2005. At that time EPA will publish a notice of availability (NOA) of the DEIS in the Federal Register. The comment period on the DEIS will be 45 days from the date the EPA's NOA appears in the Federal Register. It is very important that those interested in the management of invasive plants on the Kootenai National Forest participate at the time.

Reviewer's Obligations: Federal court decisions have established that reviewers of DEIS's must structure their participation in the environmental review of the proposal so it is meaningful and alerts the agency to the reviewer's position and contentions, (Vermont Yankee Nuclear Power Corp. v. NRDC 435 U.S. 519, 553 (1978)). Also environmental objections that could have been raised at the draft stage may be waived if not raised until after completion of the FEIS (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the Draft EIS 45 day comment period so that substantive comments and objections are made available to the Forest Service at a time when it can meaningfully consider them and respond to them in the FEIS.

To be most helpful, comments on the DEIS should be as specific as possible and may address the adequacy of the statement or the merits of the alternatives discussed (see the Council on Environmental Quality Regulations for implementing the procedural provisions of the National Environmental Policy Act at 40 CFR 1503.3). It is also helpful if comments refer to specific pages or chapters of the draft document.

After the comment period ends on the DEIS, the comments will be analyzed and considered by the Forest Service in preparing FEIS. The FEIS completion date is scheduled for August 2005. The Forest Service is required to respond, in the FEIS, to the comments received (40 CFR 1503.4). The responsible official will consider the comments, responses, disclosures of environmental consequences and applicable laws, regulations, and policies in making a decision regarding this proposal. The responsible official will document the decision and rationale in a Record of Decision. That decision will be subject to appeal under 36 CFR 215.

Responsible Official: Bob Castaneda, Forest Supervisor of the Kootenai National Forest, is the Responsible Official (Decision Maker). As the Decision Maker he will decide if the proposed project will be implemented and will document the decision and reasons for the decision in the Record of Decision. That decision will be subject to Forest Service Appeal Regulations.

Dated: June 7, 2004.
Frank Votapka,
Acting Forest Supervisor, Kootenai National Forest.

[FR Doc. 04-13530 Filed 6-15-04; 8:45 am]

BILLING CODE 3410-11-M